DEPARTMENT OF THE INTERIOR

Bureau of Land Management

[LLCON03000.LF2200000.JS0000.LFESGZT40000]

Notice of Temporary Closure of Public Lands in Mesa County, Colorado

AGENCY: Bureau of Land Management, Interior.

ACTION: Notice of temporary closure.

SUMMARY: Notice is hereby given that a temporary closure is in effect on public lands administered by the Bureau of Land Management (BLM), Grand Junction Field Office, Grand Junction, Colorado.

DATES: This temporary closure will be in effect from 12:01 a.m. (Mountain Time) on January 29, 2014 until 11:59 p.m. (Mountain Time) on January 29, 2015 or until the Authorized Officer determines adequate rehabilitation has occurred, whichever comes first.

ADDRESSES: The Grand Junction Field Office address is 2815 H Road, Grand Junction, CO 81506.

FOR FURTHER INFORMATION CONTACT: Kathryn Stevens, Grand Junction Field Office Manager, at the above address or by phone at 970-244-3000. Persons who use a telecommunications device for the deaf (TDD) may call the Federal Information Relay Service (FIRS) at 800-877-8339 to contact the above individual during normal business hours. The FIRS is available 24 hours a day, seven days a week, to leave a message or question with the above individual. You will receive a reply during normal business hours.

SUPPLEMENTARY INFORMATION: This temporary closure affects public lands burned in the Pine Ridge Fire northeast of Grand Junction in Mesa County, Colorado. The BLM originally issued a one-year temporary closure following the fire. This closure ended on July 12, 2013. A second temporary closure is required for plants to establish to stabilize soil. The public lands within the temporary closure are administered by the BLM Grand Junction Field Office. The northern boundary of the temporary closure is located at Route 7729A; the western boundary of the temporary closure is located approximately eight miles west of De Beque, Colorado; the eastern boundary of the temporary closure is located at United States Interstate 70 and the Colorado River; and the southern boundary of the temporary closure is located at Cottonwood Creek. The legal description of the affected lands is:

Colorado, Sixth Principal Meridian

T. 9 S., R. 97 W., Sections 18, 19, and 30;

T. 9 S., R. 98 W., Sections 13 to 36, inclusive;

T. 10 S., R. 98 W., Sections 1 to 3, inclusive;

T. 9 S., R. 99 W., Sections 25 and 36.

The temporary closure encompasses all public lands within the 13,920 acres burned by the fire. This temporary closure is necessary due to the potential for erosion and sedimentation in the Colorado River that could result from travel on the burned area. The fire destroyed much of the natural vegetation that held soils in place. A temporary closure of public land to motorized and mechanized vehicles within the burned area is necessary to stabilize soils, prevent erosion and protect public health and safety. An annual mix was seeded shortly after the burn to stabilize the soil. The annual seeding had very poor germination and did not successfully stabilize the soil. The burned area was seeded again with native perennials once there was snow cover on the ground. The second seeding had a much higher success rate, but the plant species need more time to establish before public use is allowed. Public use of the burned area will hamper these efforts and delay rehabilitation.

The BLM will post closure signs at main entry points to the temporary closure area. The closure notice will be posted in the Grand Junction Field Office along with maps of the affected area and other documents associated with this closure including the Environmental Assessment for the Pine Ridge Fire (DOI-BLM-CO-130-2012-0048-EA). Under the authority of Section 303(a) of the Federal Land Policy and Management Act of 1976 (43 U.S.C. 1733(a)), 43 CFR 8360.0-7 and 43 CFR 8364.1, the BLM will enforce the following rule on public land affected by the Pine Ridge Fire described as follows: You must not enter the Pine Ridge Fire Temporary Closure Area by any means of motorized or mechanized transportation.

The following persons are exempt from this order: Federal, state and local officers and employees in the performance of their official duties; members of organized rescue or firefighting forces in the performance of their official duties; and persons with written authorization from the BLM.

Any person who violates the above rule(s) and/or restriction(s) may be tried before a United States Magistrate and fined no more than $1,000, imprisoned for no more than 12 months, or both. Such violations may also be subject to the enhanced fines provided for by 18 U.S.C. 3571.

John Mehlhoff,
BLM Colorado Acting State Director.

[FR Doc. 2014-01753 Filed 1-28-14; 8:45 am]

BILLING CODE 4310-JB-P